DEPARTMENT OF ENERGY

Federal Energy Regulatory Commission

[Project No. 14681-000]

Peterson Machinery Sales; Notice of Preliminary Permit Application Accepted for Filing and Soliciting Comments, Motions To Intervene, and Competing Applications

On June 3, 2015, Peterson Machinery Sales filed an application for a preliminary permit under section 4(f) of the Federal Power Act proposing to study the feasibility of the proposed Boardman River Hydro-Electric Project No. 14681-000, to be located on the Boardman River near Traverse City, Grand Traverse County, Michigan. The sole purpose of a preliminary permit, if issued, is to grant the permit holder priority to file a license application during the permit term. A preliminary permit does not authorize the permit holder to perform any land-disturbing activities or otherwise enter upon lands or waters owned by others without the owners' express permission.

The proposed project consists of the Boardman Dam Development located at River Mile 6.1 and the Sabin Dam Development located at River Mile 5.3. The Boardman Dam Development would consist of: (1) A 103-acre Boardman Pond; (2) a 650-foot-long west earth-filled abutment, a 20-foot-wide emergency spillway, a 40-foot-long intake structure containing twin 10-foot-diameter by 73-foot-long steel penstocks leading to the powerhouse, and an approximately 150-foot-long earth-filled east abutment; (3) a 70-foot-long, 20-foot-wide reinforced concrete powerhouse containing a 1,000 kilowatt turbine-generator; and (4) appurtenant facilities.

The Sabin Dam Development would consist of: (1) A 40-acre Sabin Pond; (2) a 60-foot-long earth west embankment, a 70-foot-long by 20-foot-wide reinforced concrete powerhouse integral with the dam containing a 500 kilowatt turbine-generator, a 52-foot-long intermediate earth embankment, a 32-foot-long stop wide spillway section, an 18-foot wide tainter gate spillway section, and a 330-foot-long earth east embankment; and (3) appurtenant facilities. The project would generate an estimated 7,600 megawatt hours annually.

Applicant Contact: Charles R. Peterson, 9627 Seth Road, Northport, MI 49670; phone: 231-649-8706.

FERC Contact: Sergiu Serban, (202) 502-6211.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14681-000.

More information about this project, including a copy of the application, can be viewed or printed on the “eLibrary” link of Commission's Web site at http://www.ferc.gov/docs-filing/elibrary.asp. Enter the docket number (P-14681) in the docket number field to access the document. For assistance, contact FERC Online Support.

Dated: August 28, 2015.
Kimberly D. Bose,
Secretary.

[FR Doc. 2015-21986 Filed 9-3-15; 8:45 am]

BILLING CODE 6717-01-P